OFFICE OF THE UNITED STATES TRADE REPRESENTATIVE

Andean Trade Preference Act (ATPA), as Amended: Notice Regarding the 2003 and 2004 Annual Reviews

AGENCY: Office of the United States Trade Representative.

ACTION: Notice.

SUMMARY: In January 2005, the Office of the United States Trade Representative (USTR) published a notice specifying the results of the preliminary review of petitions it received in September 2004 in connection with the annual ATPA review and modifying the schedule for consideration of the remaining petitions. The January 2005 notice also specified the status of the petitions filed in 2003 that have remained under review. The Trade Policy Staff Committee has decided to continue the review of pending petitions.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Pub. L. 107-210), provides trade benefits for eligible Andean countries. Pursuant to section 3103(d) of the ATPDEA, USTR promulgated regulations (15 CFR part 2016) (68 FR 43922) regarding the review of eligibility of countries for the benefits of the ATPA, as amended.

In a Federal Register notice dated August 17, 2004, USTR initiated the 2004 ATPA Annual Review and announced a deadline of September 15, 2004 for the filing of petitions (69 FR 51138). Several of these petitions requested the review of certain practices in certain beneficiary developing countries regarding compliance with the eligibility criteria set forth in sections 203 (c) and (d) and section 204(b)(6)(B) of the ATPA, as amended (19 U.S.C. 3203 (c) and (d); 19 U.S.C. 3203(b)(6)(B)).

In a Federal Register notice dated January 18, 2005 (70 FR 2921), USTR published the results of the preliminary review of these petitions. The TPSC terminated the review of one petition and modified the date for the announcement of results for both the remaining 2004 petitions and the remaining 2003 petitions to on or about May 31, 2005.

With respect to the outstanding petitions, the TPSC is modifying the schedule for the review, in accordance with 15 CFR 2016.2(b). The results will be announced in the fall 2005 notice specifying the results of the preliminary review of petitions the TPSC receives as part of the 2005 annual review. Following is the list of all petitions that remain under review:

Peru: Engelhard

Peru: Princeton Dover

Peru: LeTourneau

Peru: Duke Energy

Ecuador: AFL-CIO; Human Rights Watch; and US/LEAP

Ecuador: Chevron Texaco

Ecuador: Electrolux Home Products, Inc.

Peru: Parsons Corporation

Carmen Suro-Bredie,
Chairman, Trade Policy Staff Committee.

[FR Doc. 05-12984 Filed 6-30-05; 8:45 am]

BILLING CODE 3190-W5-P